DEPARTMENT OF HEALTH AND HUMAN SERVICES

National Institutes of Health

Center for Scientific Review; Amended Notice of Meeting

Notice is hereby given of a change in the meeting of the Sensory-Motor Neuroscience Study Section, October 12, 2023, 10:00 a.m. to October 13, 2023, 8:00 p.m., National Institutes of Health, 6701 Rockledge Drive, Bethesda, MD 20892 which was published in the Federal Register on September 18, 2023, 88 FR 63969, Doc. No. 2023-20104.

This meeting is being amended to change the date from October 12, 2023-October 13, 2023, to October 12, 2023. The meeting is closed to the public.

Dated: September 25, 2023.
Tyeshia M. Roberson-Curtis,
Program Analyst, Office of Federal Advisory Committee Policy.

[FR Doc. 2023-21355 Filed 9-28-23; 8:45 am]

BILLING CODE 4140-01-P